DEPARTMENT OF AGRICULTURE

Office of the Secretary

Notice of the Research, Education, and Economics Task Force Meeting

AGENCY: Research, Education, and Economics, USDA.

ACTION: Notice of meeting.

SUMMARY: In accordance with the Federal Advisory Committee Act, 5 U.S.C. App., the United States Department of Agriculture announces a meeting of the Research, Education, and Economics Task Force.

DATES: The Research, Education, and Economics Task Force will meet on April 20, 2004. The public may file written comments before or up to two weeks after the meeting with the contact person.

ADDRESSES: On April 20th, the meeting will take place at the Lowes L'Enfant Plaza Hotel, 480 L'Enfant Plaza, SW., Washington, DC, 20024.

Written comments from the public may be sent to the Contact Person identified in this notice at: The Research, Education, and Economics Task Force; Office of the Under Secretary, Room 214-W, Jamie L. Whitten Building, United States Department of Agriculture, 1400 Independence Ave., SW., Washington, DC 20250.

FOR FURTHER INFORMATION CONTACT: Kathryn Boots, Executive Director, Research, Education, and Economics Task Force; telephone: (202) 690-0826; fax: (202) 690-2842; or e-mail: katie.boots@usda.gov.

SUPPLEMENTARY INFORMATION: On Tuesday, April 20th, the Research, Education, and Economics Task Force will hold a general meeting at the Lowes L'Enfant Plaza Hotel. The Task Force will continue its evaluation of the merits of establishing one or more National Institutes focused on disciplines important to the progress of food and Agricultural science. In the morning there will be welcoming remarks made by the Chairman of the Task Force, Dr. William Danforth, Chancellor Emeritus, Vice Chairman, Board of Trustees, Washington University in St. Louis, and USDA Deputy Under Secretary for Research, Education, and Economics (REE), Dr. Rodney J. Brown. Welcoming remarks will be followed by a review and editing of the draft report. There will be a working lunch followed by an afternoon discussion of plans and the timetable for completing and approving the final report.

The Task Force Meeting will adjourn on Tuesday, April 20th, around 4 p.m. This meeting is open to the public. Due to a delay, this notice could not be published at least 15 days prior to the meeting. The meeting will be held as scheduled because of the significant sacrifice rescheduling would require of the Task Force members who have adjusted their schedules to accommodate the proposed meeting date. Written comments for the public record will be welcomed before and up to two weeks following the Task Force meeting (by close of business Tuesday, May 4th, 2004). All statements will become part of the official record of the Research, Education, and Economics Task Force and will be kept on file for public review in the Office of the Under Secretary for Research, Education, and Economics.

Done at Washington, DC this 13th day of April 2004.
Rodney J. Brown,
Deputy Under Secretary, Research, Education, and Economics.

[FR Doc. 04-8835 Filed 4-15-04; 8:45 am]

BILLING CODE 3410-03-U